DEPARTMENT OF ENERGY

Federal Energy Regulatory Commission

[Project No. 13162-000]

BPUS Generation Development LLC; Notice of Preliminary Permit Application Accepted for Filing and Soliciting Comments, Motions To Intervene, and Competing Applications

July 21, 2008.

On April 2, 2008, BPUS Generation Development LLC filed an application, pursuant to section 4(f) of the Federal Power Act, proposing to study the feasibility of the Sylvan Slough Hydroelectric Project to be located on Sylvan Slough on the Mississippi River in Rock Island County, Illinois. The project would be located near the U.S. Army Corps of Engineers' Mississippi Lock & Dam No. 15 and would occupy federal lands under the jurisdiction of the U.S. Army, Rock Island Arsenal Garrison.

The proposed project would consist of: (1) A new 200-foot long, 120-foot wide, 60-foot high powerhouse; (2) three turbine/generator units with a total installed capacity of 7.5 megawatts; (3) a transmission line; and (4) appurtenant facilities. The project is estimated to have an annual generation of 40 gigawatt-hours, which would be sold to a local utility.

Applicant Contact: David W. Culligan, BPUS Generation Development LLC, 225 Greenfield Parkway, Suite 201, Liverpool, NY 13088; Phone: 315-413-2821. FERC Contact: Henry Woo, 202-502-8872.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13162) in the docket number field to access the document. For assistance, call toll-free 1-866-208-3372.

Kimberly D. Bose,
Secretary.

[FR Doc. E8-17150 Filed 7-25-08; 8:45 am]

BILLING CODE 6717-01-P